DEPARTMENT OF HEALTH AND HUMAN SERVICES

National Institutes of Health

Center for Scientific Review; Amended Notice of Meeting

Notice is hereby given of a change in the meeting of the Center for Scientific Review Special Emphasis Panel, November 7, 2014, 12:00 p.m. to November 7, 2014, 02:00 p.m., National Institutes of Health, 6701 Rockledge Drive, Bethesda, MD, 20892 which was published in the Federal Register on October 10, 2014, 79 FR 61325.

The meeting title was changed to Child Psychopathology and Developmental Disabilities AREA Review. The meeting date, time and location remain the same. The meeting is closed to the public.

Dated: October 10, 2014.
Anna Snouffer,
Deputy Director, Office of Federal Advisory Committee Policy.

[FR Doc. 2014-24603 Filed 10-15-14; 8:45 am]

BILLING CODE 4140-01-P